DEPARTMENT OF LABOR

Office of the Secretary

United States-Peru Trade Promotion Agreement Notice of Determination Regarding Review of Submission #2010-03

AGENCY: Bureau of International Labor Affairs, U.S. Department of Labor.

ACTION: Notice.

SUMMARY: The Office of Trade and Labor Affairs (OTLA) gives notice that on July 19, 2011, Submission #2010-03 was accepted for review pursuant to Article 17.2 of Chapter 17 (the Labor Chapter) of the United States-Peru Trade Promotion Agreement (PTPA).

The submission was filed with OTLA on December 29, 2010, by a Peruvian union, the Sindicato Nacional de Unidad de Trabajadores de Superintendencia Nacional de Administración Tributaria (SINAUT-SUNAT). The submission alleges the Government of Peru has violated Article 17.2 of the Labor Chapter of the PTPA by failing to adopt and maintain in its statutes and regulations, and practices thereunder, the effective recognition of the right to collective bargaining as stated in the International Labour Organization's Declaration on Fundamental Principles and Rights at Work and its Follow-Up. SINAUT-SUNAT alleges that the employer, Superintendencia Nacional de Administración Tributaria (SUNAT) has refused to negotiate in good faith and engage constructively at various stages of the collective bargaining process, as required by Peruvian law. These allegations are supported by facts which, if substantiated, could demonstrate that the Government of Peru's actions were inconsistent with its commitments under the Labor Chapter.

The objective of the review of the submission will be to gather information so that OTLA can better understand the allegations therein and publicly report on the U.S. Government's views regarding whether the Government of Peru's actions were consistent with its obligations under the Labor Chapter of the PTPA.

DATES: Effective Date: July 15, 2011.

FOR FURTHER INFORMATION CONTACT: Gregory Schoepfle, Director, OTLA, U.S. Department of Labor, 200 Constitution Avenue, NW., Room S-5303, Washington, DC 20210. Telephone: (202) 693-4900. (This is not a toll-free number.)

SUPPLEMENTARY INFORMATION: Article 17.5.5(c) of the Labor Chapter of the PTPA establishes that each Party's contact point shall provide for the submission, receipt, and consideration of communications from persons of a Party on matters related to provisions of the Labor Chapter and pursuant to Article 17.5.6, shall review such communications in accordance with domestic procedures. On December 14, 2006, the Department of Labor's OTLA was designated as the contact point for administering the labor provisions in free trade agreements, including the PTPA [71 FR 76691 (2006)].

The same Federal Register notice informed the public of the Procedural Guidelines that OTLA would follow for the receipt and review of public submissions. These Procedural Guidelines are available at http://www.dol.gov/ilab/programs/otla/proceduralguidelines.htm. According to the definitions contained in the Procedural Guidelines (Section B) a “submission” is “a communication from the public containing specific allegations, accompanied by relevant supporting information, that another Party has failed to meet its commitments or obligations arising under a labor chapter or Part Two of the NAALC.” Pursuant to Section F.2, the submission shall identify clearly the person filing the submission and shall be signed and dated. It shall state with specificity the matters that the submitter requests the OTLA to consider and include supporting information available to the submitter, including, wherever possible, copies of laws or regulations that are the subject of the submission.

The Procedural Guidelines specify that OTLA shall consider six factors, to the extent that they are relevant, in determining whether to accept a submission for review:

(1) Whether the submission raises issues relevant to any matter arising under a labor chapter;

(2) Whether a review would further the objectives of a labor chapter;

(3) Whether the submission clearly identifies the person filing the submission, is signed and dated, and is sufficiently specific to determine the nature of the request and permit an appropriate review;

(4) Whether the statements contained in the submission, if substantiated, would constitute a failure of the other Party to comply with its obligations or commitments under a labor chapter;

(5) Whether the statements contained in the submission or available information demonstrate that appropriate relief has been sought under the domestic laws of the other Party, or that the matter or a related matter is pending before an international body; and

(6) Whether the submission is substantially similar to a recent submission and significant, new information has been furnished that would substantially differentiate the submission from the one previously filed.

In the present case, a Peruvian union, the Sindicato Nacional de Unidad de Trabajadores de Superintendencia Nacional de Administración Tributaria (SINAUT-SUNAT) that represents workers at the National Superintendency of Tax Administration (SUNAT) filed a submission with OTLA on December 29, 2010, which alleges that the Government of Peru, through SUNAT, has failed to live up to its commitments under Article 17.2.1 of the PTPA by not effectively recognizing the right to collective bargaining. The submission alleges that the Government of Peru is failing to comply with the legal requirements for collective bargaining by denying the union's request to submit their dispute to arbitration after a prolonged negotiation and conciliation process has failed to resolve the dispute.

After reviewing the submission, and additional supplementary information provided by the submitters, OTLA finds that the submission raises pertinent issues that would further the objectives of the Labor Chapter and that could, if substantiated, constitute a failure of the Government of Peru to comply with its PTPA commitments. The submission meets the filing requirements established in Section F.2 of the OTLA Procedural Guidelines and is not substantially similar to a recent submission. The submitters have sought appropriate relief under domestic laws and procedures. The OTLA has taken these factors into account and accepted the submission for review.

OTLA's decision to accept the submission for review is not intended to indicate any determination as to the validity or accuracy of the allegations contained in the submission. The objective of the review of the submission will be to gather information so that OTLA can better understand the allegations therein and publicly report on the U.S. Government's views regarding whether the Government of Peru's actions were consistent with the obligations set forth in the Labor Chapter of the PTPA. The review will be completed and a public report issued within 180 days, unless circumstances, as determined by OTLA, require an extension of time, as set out in the Procedural Guidelines. The public report will include a summary of the review process, as well as findings and recommendations.

Signed at Washington, DC, on July 19, 2011.
Sandra Polaski,
Deputy Undersecretary, International Affairs.

[FR Doc. 2011-18737 Filed 7-25-11; 8:45 am]

BILLING CODE 4510-28-P